DEPARTMENT OF COMMERCE

International Trade Administration

[A-489-824]

Heavy Walled Rectangular Welded Carbon Steel Pipes and Tubes From the Republic of Turkey: Preliminary Results of Antidumping Duty Administrative Review and Preliminary Determination of No Shipments; 2017-2018

AGENCY: Enforcement and Compliance, International Trade Administration, Department of Commerce.

SUMMARY: The Department of Commerce (Commerce) is conducting an administrative review of heavy walled rectangular welded carbon steel pipes and tubes (HWR pipes and tubes) from the Republic of Turkey (Turkey) for the period of review (POR) September 1, 2017 through August 31, 2018. We preliminarily determine that Noksel Celik Boru Sanayi A.S., a producer and/or exporter subject to this administrative review, made sales of subject merchandise at less than normal value during the POR. We also preliminarily determine that Cinar Boru Profil San Ve Tic A.S. had no shipments during the POR. If these preliminary results are adopted in the final results, Commerce will instruct U.S. Customs and Border Protection (CBP) to assess antidumping (AD) duties on all appropriate entries of subject merchandise. Interested parties are invited to comment on these preliminary results.

DATES: Applicable July 19, 2019.

FOR FURTHER INFORMATION CONTACT: William Horn or Alexis Cherry, AD/CVD Operations, Office VIII, Enforcement and Compliance, International Trade Administration, U.S. Department of Commerce, 1401 Constitution Avenue NW, Washington, DC 20230; telephone: (202) 482-4868 or (202) 482-0607, respectively.

SUPPLEMENTARY INFORMATION:

Background

On November 15, 2018, Commerce published a notice of initiation of an administrative review of the AD order ¹ on HWR pipes and tubes from Turkey.² The Initiation Notice covered the following producers/exporters of the subject merchandise: (1) Agir Haddecilik A.S.; (2) Cinar Boru Profil San Ve Tic A.S. (Cinar Boru); ³ (3) MTS Lojistik ve Tasimacilik Hizmetleri TIC A.S. Istanbul; (4) Noksel Celik Boru Sanayi A.S. (Noksel); and (5) Ozdemir Boru Profil San. ve Tic. Ltd. Sti (Ozdemir).⁴ On December 17, 2018, we selected Noksel as the mandatory respondent in this review; ⁵ however, Noksel notified Commerce that it did not intend to participate.⁶ On February 22, 2019, we selected Cinar Boru as the new mandatory respondent.⁷ On March 14, 2019, Cinar Boru notified Commerce that it did not ship any subject merchandise to the United States during the POR.⁸

¹ See Heavy Walled Rectangular Welded Carbon Steel Pipes and Tubes from the Republic of Korea, Mexico, and the Republic of Turkey: Antidumping Duty Orders, 81 FR 62865 (September 13, 2016) (Order).

² See Initiation of Antidumping and Countervailing Duty Administrative Reviews, 83 FR 57411 (November 15, 2018) (Initiation Notice).

³ In the Initiation Notice, Commerce initiated a review of Cinar Boru Profil San Ve Tic Stl. However, the company has identified itself as Cinar Boru Profil San Ve Tic A.S. in its letters to Commerce. See, e.g., Cinar Boru's Letter, “Heavy Walled Rectangular Welded Carbon Steel Pipes and Tubes from Turkey (A-489-824),” dated March 14, 2019 (Cinar Boru's No Shipment Letter). Commerce is hereby using Cinar Boru's spelling of its name.

⁴ In the Initiation Notice, we failed to clarify that HWR pipes and tubes that are produced and exported by Ozdemir are excluded from the Order. See Order, 81 FR at 62866. Thus, Ozdemir's inclusion in this administrative review is limited to entries for which Ozdemir was not both the exporter and producer of the subject merchandise.

⁵ See Memorandum, “2017-2018 Administrative Review of Heavy Walled Rectangular Welded Carbon Steel Pipes and Tubes from the Republic of Turkey: Respondent Selection,” dated December 17, 2018 (Respondent Selection Memorandum).

⁶ See Noksel's Letter, “Heavy Walled Rectangular Welded Carbon Steel Pipes and Tubes from Turkey (A-489-824),” dated February 4, 2019.

⁷ See Memorandum, “2017-2018 Administrative Review of Heavy Walled Rectangular Welded Carbon and Steel Pipes and Tubes from the Republic of Turkey: Second Respondent Selection,” dated February 22, 2019 (Second Respondent Selection Memorandum).

⁸ See Cinar Boru's No Shipment Letter.

Commerce exercised its discretion to toll all deadlines affected by the partial federal government closure from December 22, 2018 through the resumption of operations on January 29, 2019.⁹ The revised deadline for the preliminary results is July 12, 2019.

⁹ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

For a complete description of the events in this proceeding, see the Preliminary Decision Memorandum.¹⁰ A list of topics included in the Preliminary Decision Memorandum is included as an appendix to this notice. The Preliminary Decision Memorandum is a public document and is on file electronically via Enforcement and Compliance's Antidumping and Countervailing Duty Centralized Electronic Service System (ACCESS). ACCESS is available to registered users at http://access.trade.gov and in the Central Records Unit, Room B8024 of the main Commerce building. In addition, a complete version of the Preliminary Decision Memorandum can be accessed directly on the internet at http://enforcement.trade.gov/frn/. The signed Preliminary Decision Memorandum and the electronic version of the Preliminary Decision Memorandum are identical in content.

¹⁰ See Memorandum, “Decision Memorandum for the Preliminary Results in the Antidumping Duty Administrative Review: Heavy Walled Rectangular Welded Carbon Steel Pipes and Tubes from the Republic of Turkey; 2017-2018” dated concurrently with, and hereby adopted by, this notice (Preliminary Decision Memorandum).

Scope of the Order

The products covered by the order are HWR pipes and tubes from Turkey. The subject merchandise is currently classifiable under Harmonized Tariff Schedule of the United States (HTSUS) subheading 7306.61.1000. Subject merchandise may also enter under HTSUS 7306.61.3000. While the HTSUS subheadings are provided for convenience and customs purposes, the written description of the scope of this proceeding is dispositive. A full description of the scope of the order is contained in the Preliminary Decision Memorandum.

Preliminary Determination of No Shipments

We preliminarily determine that Cinar Boru made no shipments of subject merchandise during the POR. Moreover, consistent with our practice, we are not preliminarily rescinding the review with respect to Cinar Boru, but, rather, we will complete the review with respect to the company and issue appropriate instructions to CBP based on the final results of this review.¹¹ For further discussion, see the Preliminary Decision Memorandum.

¹¹ See, e.g., Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR 51306 (August 28, 2014).

Methodology

Commerce is conducting this review in accordance with section 751(a)(1)(B) and (2) of the Tariff Act of 1930, as amended (Act). Pursuant to section 776(a) and (b) of the Act, Commerce has preliminarily relied upon facts otherwise available with adverse inferences (AFA) for Noksel. For a full description of the methodology underlying the preliminary determination, see the Preliminary Decision Memorandum.

Preliminary Results of the Review

As a result of this review, we preliminarily determine the following weighted-average dumping margins exist for the period September 1, 2017 through August 31, 2018:

Exporter/producer | Weighted- average dumping margin (percent)
Agir Haddecilik A.S. | 35.66
MTS Lojistik ve Tasimacilik Hizmetleri TIC A.S. Istanbul | 35.66
Noksel Celik Boru Sanayi A.S. | 35.66
Ozdemir Boru Profil San. ve Tic. Ltd. Sti.¹² | 35.66

Rate for AFA and Non-Selected Companies

In this review, we assigned to Noksel as AFA the highest rate on the record of this proceeding. In accordance with the U.S. Court of Appeals for the Federal Circuit's decision in Albemarle Corp. v. United States,¹³ we are applying to the non-selected companies the dumping margin that we are preliminarily applying to Noksel in this administrative review.¹⁴ This is the only rate determined in this review for an individual respondent and, thus, it is applicable to the non-selected companies under section 735(c)(5)(B) of the Act. For a detailed discussion, see the Preliminary Decision Memorandum.

¹² This rate only applies to subject merchandise that was not both exported and produced by Ozdemir.

¹³ See Albemarle Corp. v. United States, 821 F.3d 1345 (Fed. Cir. 2016).

¹⁴ See, e.g., Diamond Sawblades and Parts Thereof from the People's Republic of China: Final Results of Antidumping Duty Administrative Review; 2015-2016, 83 FR 17527 (April 20, 2018), and accompanying Issues and Decision Memorandum at Comment 4.

Assessment Rates

Upon completion of the administrative review, Commerce shall determine, and CBP shall assess, AD duties on appropriate entries covered by this review.¹⁵ If the preliminary results are unchanged for the final results, Commerce will instruct CBP to apply the rate of 35.66 percent to suspended entries of the subject merchandise from Noksel and the non-selected companies. Consistent with Commerce's assessment practice, if we continue to find in the final results that Cinar Boru had no shipments of subject merchandise during the POR, we will instruct CBP to liquidate any suspended entries under Cinar Boru's case number at the all-others rate (i.e., 17.73 percent) if there is no rate for the intermediate companies involved in the transaction.¹⁶ We intend to issue instructions to CBP 15 days after publication of the final results of this review.

¹⁵ See 19 CFR 351.212(b).

¹⁶ For a full discussion of this practice, see Antidumping and Countervailing Duty Proceedings: Assessment of Antidumping Duties, 68 FR 23954 (May 6, 2003).

Cash Deposit Requirements

The following deposit requirements will be effective upon publication of the notice of final results of administrative review for all shipments of HWR pipes and tubes from Turkey entered, or withdrawn from warehouse, for consumption on or after the date of publication of the final results of this administrative review, as provided by section 751(a)(2) of the Act: (1) The cash deposit rates for each specific company listed above will be the weighted-average dumping margins established in the final results of this administrative review except if the rates are de minimis within the meaning of 19 CFR 351.106(c)(1), in which case the cash deposit rates will be zero; (2) for merchandise exported by manufacturers or exporters not covered in this review but covered in a prior segment of the proceeding, the cash deposit rate will continue to be the company-specific rate published for the most recently completed segment of this proceeding in which the manufacturer or exporter participated; (3) if the exporter is not a firm covered in this review, a prior review, or the original less-than-fair-value (LTFV) investigation, but the manufacturer is, the cash deposit rate will be the rate established for the most recently completed segment of the proceeding for the manufacturer of the merchandise; and (4) the cash deposit rate for all other manufacturers or exporters will continue to be 17.73 percent ad valorem, the all-others rate established in the LTFV investigation.¹⁷ These cash deposit requirements, when imposed, shall remain in effect until further notice.

¹⁷ See Heavy Walled Rectangular Welded Carbon Steel Pipes and Tubes from the Republic of Turkey: Final Determination of Sales at Less Than Fair Value, 81 FR 47355 (July 21, 2016).

Disclosure

Normally, Commerce discloses to interested parties the calculations performed in connection with the preliminary results of review within five days of any public announcement or, if there is no public announcement, within five days of the date of publication of the notice of preliminary determination in the Federal Register, in accordance with 19 CFR 351.224(b). However, because Commerce preliminarily applied AFA to the mandatory respondent Noksel in this administrative review, in accordance with section 776 of the Act, and preliminarily made a no-shipment determination with respect to the mandatory respondent Cinar Boru, there are no calculations to disclose.

Public Comment

Pursuant to 19 CFR 351.309(c), interested parties may submit case briefs no later than 30 days after the date of publication of this notice. Rebuttal briefs, limited to issues raised in the case briefs, may be filed no later than five days after the date for filing case briefs.¹⁸ Parties who submit case briefs or rebuttal briefs in this proceeding are encouraged to submit with each argument: (1) A statement of the issue; (2) a brief summary of the argument; and (3) a table of authorities.¹⁹ Case and rebuttal briefs should be filed using ACCESS.²⁰

¹⁸ See 19 CFR 351.309(d).

¹⁹ See 19 CFR 351.309(c)(2) and (d)(2).

²⁰ See 19 CFR 351.303.

Pursuant to 19 CFR 351.310(c), interested parties who wish to request a hearing must submit a written request to the Assistant Secretary for Enforcement and Compliance, U.S. Department of Commerce, filed electronically via ACCESS. An electronically filed document must be received successfully in its entirety by ACCESS by 5:00 p.m. Eastern Time within 30 days after the date of publication of this notice.²¹ Requests should contain: (1) The party's name, address, and telephone number; (2) the number of participants; and (3) a list of issues to be discussed. Issues raised in the hearing will be limited to those raised in the respective case briefs. If a request for a hearing is made, parties will be notified of the date and time of the hearing to be held at the U.S. Department of Commerce, 1401 Constitution Avenue NW, Washington, DC 20230.

²¹ See 19 CFR 351.310(c).

Unless the deadline is extended pursuant to section 751(a)(3)(A) of the Act and 19 CFR 351.213(h)(2), Commerce intends to issue the final results of this administrative review, including the results of its analysis of the issues raised in all written case briefs, within 120 days after the publication of this notice in the Federal Register.

Notification to Importers

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification to Interested Parties

We are issuing and publishing these preliminary results in accordance with sections 751(a)(1) and 777(i)(1) of the Act and 19 CFR 351.213(h)(1).

Dated: July 12, 2019.
Jeffrey I. Kessler,
Assistant Secretary for Enforcement and Compliance.

Appendix

List of Topics Discussed in the Preliminary Decision Memorandum

I. Summary

II. Background

III. Scope of the Order

IV. Preliminary Determination of No Shipments

V. Use of Facts Available and Adverse Inferences

VI. Recommendation

[FR Doc. 2019-15301 Filed 7-18-19; 8:45 am]

BILLING CODE 3510-DS-P